ENVIRONMENTAL PROTECTION AGENCY

[EPA-HQ-OPPT-2015-0120; FRL-9922-99]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from December 1, 2014 to December 31, 2014.

DATES: Comments identified by the specific PMN number or TME number, must be received on or before March 23, 2015.

ADDRESSES: Submit your comments, identified by docket identification (ID) number EPA-HQ-OPPT-2015-0120, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW., Washington, DC 20460-0001; telephone number: (202) 564-8593; email address: Rahai.Jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from December 1, 2014 to December 31, 2014, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—42 PMNs Received From 12/1/14 to 12/31/14
Case No. | Received date | Projected notice end date | Manufacturer/importer | Use | Chemical
P-15-0131 | 12/8/2014 | 3/8/2015 | CBI | (G) Used in water soluble films Used for paper coatings. | (G) Polymer of acetic acid ethenyl ester with pyrrolidone, partially and fully hydrolized.
P-15-0132 | 12/9/2014 | 3/9/2015 | CBI | (G) Polyester polyol component in a 2K Solventle SS PU system | (G) Adipic acid, polymer with benzenedicarboxylic acids and alkanediols.
P-15-0133 | 12/9/2014 | 3/9/2015 | Colonial Chemical, Inc | (G) Emulsifier | (S) Propanaminium, 2,3-dihydroxy-N,N-Dimethyl-N-(coconut-alkyl)-, 3-sodium hydrogen phosphate ester, chloride*.
P-15-0134 | 12/10/2014 | 3/10/2015 | Cardolite Corporation | (G) Cashew nutshell liquid based, Solvent free, 100% Solids epoxy hardener for Higher solids epoxy formulations | (G) Cashew nutshell liquid polymer with formaldehyde and amines.
P-15-0135 | 12/10/2014 | 3/10/2015 | Cardolite Corporation | (G) Cashew nutshell liquid based, 100% Solids Epoxy Hardener for Higher solids epoxy coating formulation | (G) Cashew nutshell liquid polymer with formaldehyde and amines.
P-15-0136 | 12/11/2014 | 3/11/2015 | CBI | (G) Polymer | (G) Alkylalkenoic acid copolymer.
P-15-0137 | 12/11/2014 | 3/11/2015 | Allnex USA Inc | (S) Stain blocking primer for architectural coatings | (G) Fatty acids, polymers with substituted carbomonocycle, substituted heteromonocycle, and alkylamine, substituted alkanoic acid (salts).
P-15-0138 | 12/11/2014 | 3/11/2015 | CBI | (S) Byproduct used for metals recovery | (G) Titanium complex.
P-15-0139 | 12/15/2014 | 3/15/2015 | CBI | (S) Flowback aid in oil and gas applications.; surfactant for use in cleaning products.; surfactant for use in liquid soaps.; surfactant for use in agricultural/crop applications | (G) D-Glucitol derivative.
P-15-0140 | 12/15/2014 | 3/15/2015 | CBI | (S) Flowback aid in oil and gas applications.; surfactant for use in cleaning products.; surfactant for use in liquid soaps.; surfactant for use in agricultural/crop applications | (G) D-Glucitol derivative.
P-15-0141 | 12/15/2014 | 3/15/2015 | CBI | (S) Flowback aid in oil and gas applications.; surfactant for use in cleaning products.; surfactant for use in liquid soaps.; surfactant for use in agricultural/crop applications | (G) D-Glucitol derivative.
P-15-0142 | 12/15/2014 | 3/15/2015 | CBI | (S) Flowback aid in oil and gas applications surfactant for use in cleaning products.; surfactant for use in liquid soaps.; surfactant for use in agricultural/crop applications | (G) D-Glucitol derivative.
P-15-0143 | 12/12/2014 | 3/12/2015 | CBI | (G) Component for Metal-Organic Frameworks | (G) Metallic salt of aromatic carboxylic acids.
P-15-0144 | 12/15/2014 | 3/15/2015 | CBI | (G) Polymer coating | (G) Polyaromatic amine.
P-15-0145 | 12/15/2014 | 3/15/2015 | CBI | (G) Coating agent | (G) Substituted Naphthopyran.
P-15-0146 | 12/16/2014 | 3/16/2015 | CBI | (G) Coating agent | (G) Substituted Naphthopyran.
P-15-0147 | 12/16/2014 | 3/16/2015 | CBI | (G) Coating agent | (G) Substituted Naphthopyran.
P-15-0148 | 12/16/2014 | 3/16/2015 | CBI | (G) Coating agent | (G) Substituted Naphthopyran.
P-15-0149 | 12/17/2014 | 3/17/2015 | CBI | (G) Down well additive | (G) Sulfonated alkylbenzene salts.
P-15-0150 | 12/17/2014 | 3/17/2015 | Mitsui Chemicals America, Inc | (G) Contained use | (G) Cyclohexanedicarboxylic acid, dialkyl ester.
P-15-0151 | 12/18/2014 | 3/18/2015 | CBI | (S) Ultraviolet (UV)-curable ingredient in coating formulation that is applied to various ridged plastic substrates | (G) Co-polymer of styrene and acrylic esters, propenoate.
P-15-0152 | 12/18/2014 | 3/18/2015 | CBI | (G) Cured coatings and inks | (G) Urethane acrylate.
P-15-0153 | 12/18/2014 | 3/18/2015 | CBI | (G) Processing aid for vegetable oil refining for production of biofuel | (S) Phosphatidylcholine-2-aclhydrolase.
P-15-0154 | 12/18/2014 | 3/18/2015 | CBI | (G) Textile treatment | (G) Fluoroalkyl acrylate copolymer.
P-15-0155 | 12/18/2014 | 3/18/2015 | CBI | (S) A non dispersive catalysis used in the formulation of inks and toners | (S) TRI-.MU.-(2-ethylhexanoat O-O)-Bis (N,N',N″-Trimethyl-1,4,7-triazacyclononane-N,N',N″) dimanganese*.
P-15-0156 | 12/19/2014 | 3/19/2015 | 3M Company | (S) Reactive polymer in 2 part epoxy adhesive | (G) Amine modified epoxy resin.
P-15-0157 | 12/19/2014 | 3/19/2015 | CBI | (G) Copolyester resin for priming and heat sealing | (G) Polymer with Benzenedicarboxylic acids and Alkanediols.
P-15-0158 | 12/22/2014 | 3/22/2015 | CBI | (G) Printing additive | (G) Carbomonocyclic tricarboxylic acid, polymer with Carbomonocyclic dicarboxylic acid, alkanedioic acids, alkanediols, substituted Carbomonocycle, alkyl alkenoate, alkanediols and alkenoic acid, alkyll ester, alkanoate, alkyl peroxide-initiated.
P-15-0159 | 12/22/2014 | 3/22/2015 | CBI | (G) Printing additive | (G) Carbomonocyclic tricarboxylic acid, polymer with carbomonocyclic dicarboxylic acid, alkanedioic acids, alkanedioll, alkanedioic acid, alkanediol, substituted carbomonocycle, alkyl alkanoate, alkanedioic acid, alkanediols and alkanoic acid, alkyl ester, alkanoate, alkyl peroxide-initiated.
P-15-0160 | 12/22/2014 | 3/22/2015 | CBI | (G) Printing Additive | (G) Alkyl dicarboxylic acids, polymers with alkenoic acid, alkyl alkenoate, alcohols, alkyl alkenoate and substituted carbomonocycle, alkyl peroxideinitiated.
P-15-0162 | 12/22/2014 | 3/22/2015 | CBI | (G) Printing additive | (G) Alkyl dicarboxylic acids, polymers with alcohols.
P-15-0163 | 12/22/2014 | 3/22/2015 | CBI | (G) Printing additive | (G) Carboxypolyalkylene resin, oxidized, polymer with alkenoic acid, alkyl alkenoate, alkenedioic acid, polyalkylene glycol substituted dicarbomonocycle, substituted carbomonocycle, carbomonocyclic dicarboxylic acid and anhydride, alkyl peroxide-initiated.
P-15-0164 | 12/23/2014 | 3/23/2015 | CBI | (G) Additive | (G) Cyclic peptide derivative.
P-15-0164 | 12/23/2014 | 3/23/2015 | CBI | (G) Additive | (G) Nitrilo cyclotetracosine.
P-15-0165 | 12/23/2014 | 3/23/2015 | CBI | (G) Fragrance ingredient for use in fragrances for soaps, detergents, cleaners and other personal care & household products | (G) Octahydro-4,7-methano-1H-indene propanal (isomer mix).
P-15-0166 | 12/29/2014 | 3/29/2015 | CBI | (G) Binder resin; open non-dispersive use | (G) Polyester resin.
P-15-0168 | 12/29/2014 | 3/29/2015 | CBI | (S) Fragrance for fabric softener | (S) 2-Heptanol, 3,6-dimethyl-.
P-15-0168 | 12/29/2014 | 3/29/2015 | CBI | (S) Fragrance for dishwashing detergent | (S) 2-Heptanol, 3,6-dimethyl-.
P-15-0168 | 12/29/2014 | 3/29/2015 | CBI | (S) Fragrance for other household products (ex. All purpose cleaners, bathroom cleaners, kitchen cleaners, toilet cleaners) | (S) 2-Heptanol, 3,6-dimethyl-.
P-15-0168 | 12/29/2014 | 3/29/2015 | CBI | (S) Fragrance for laundry detergent | (S) 2-Heptanol, 3,6-dimethyl-.
P-15-0169 | 12/30/2014 | 3/30/2015 | CBI | (G) Ingredient for metal coating | (G) Polyurea.
P-15-0170 | 12/31/2014 | 3/31/2015 | CBI | (G) Monomer in resin manufacture for coatings use | (S) Neononanoic acid, 2-oxiranylmethyl ester*.

In Table II. of this unit, EPA provides the following information (to the extent that such information is not claimed as CBI) on the NOCs received by EPA during this period: The EPA case number assigned to the NOC, the date the NOC was received by EPA, the projected end date for EPA's review of the NOC, and chemical identity.

Table II— 28 NOCs Received From 12/01/14 to 12/31/14
Case no. | Received date | Commencement notice end date | Chemical
P-14-0823 | 12/8/2014 | 12/6/2014 | (G) Formaldehyde, polymer with substituted carbomonocycle, alkyl ether.
P-14-0820 | 12/8/2014 | 12/7/2014 | (G) Formaldehyde, polymer with substituted carbomonocycles, alkyl ether.
P-14-0740 | 12/8/2014 | 12/8/2014 | (S) D-Glucopyranose, oligomeric, c10-16-alkyl glycosides, polymers with 1,3-dichloro-2-propanol*.
P-14-0741 | 12/9/2014 | 11/16/2014 | (S) Siloxanes and silicones, di-me, me3-[2-[(1-oxo-2-propen-1-yl)oxy]ethoxy]propyl, [[Dimethyl[3-[2-[(1-oxo-2-propen-1-yl)Oxy]ethoxy]Propyl]silyl]oxy]-terminated, polymers with chlorotrimethylsilane-iso-pr alc.-sodium silicate reaction products*.
P-13-0317 | 12/9/2014 | 12/2/2014 | (G) Polyetherester.
P-13-0908 | 12/9/2014 | 12/2/2014 | (G) Polyether polyester Urethane Phosphate.
P-14-0760 | 12/9/2014 | 12/4/2014 | (G) Styrene-methacrylate copolymer.
P-11-0549 | 12/9/2014 | 12/9/2014 | (S) 2-Butene, 1,1,1,4,4,4-hexafluoro-, (2z)-*.
P-14-0667 | 12/10/2014 | 11/18/2014 | (G) Aromatic carboxylic acid.
P-14-0729 | 12/10/2014 | 11/21/2014 | (G) Carboxylated nitrile rubber.
P-14-0668 | 12/10/2014 | 11/26/2014 | (G) Aromatic carboxylic acid salt.
P-14-0543 | 12/10/2014 | 12/3/2014 | (S) Benzoic acid, 2-([1,1′-biphenyl]-4-ylcarbonyl)-*.
P-14-0664 | 12/11/2014 | 11/19/2014 | (G) 2-Propenoic acid, telomer with alkanediol mono-2-propenoate and sodium phosphinate (1:1), ammonium salt.
P-10-0364 | 12/11/2014 | 11/24/2014 | (G) Bisphospite nickel cyanoalkyl complex.
P-14-0651 | 12/11/2014 | 12/8/2014 | (G) Methylenediphenyl diisocyanate (MDI) prepolymer.
P-14-0582 | 12/12/2014 | 11/25/2014 | (S) Siloxanes and silicones, di-me, bu group- and 3-(2-hydroxyethoxy)propyl group-terminated*.
P-14-0652 | 12/16/2014 | 11/19/2014 | (G) Perfluoropolyether allyl ether.
P-14-0376 | 12/16/2014 | 11/26/2014 | (G) Vegetable oil fatty acid, compds. With ethenyl heterocycle -2-ethylhexyl acrylate-2-hydroxyethyl methacrylate- polyalkylene ether methacrylate me ether.
P-14-0438 | 12/16/2014 | 12/4/2014 | (G) Trialkyl substituted carboxylic acid, mixed esters with alkyl substituted carboxylic acid and polyol.
P-14-0752 | 12/16/2014 | 12/4/2014 | (G) Acid salts, compounds With [(aminoalkyl)imino]bis[alcohol]-epoxy-cycloalkylamine-polymer-dialcoholamine reaction products.
P-14-0702 | 12/17/2014 | 11/21/2014 | (G) Perfluoropolyether compound.
P-14-0287 | 12/17/2014 | 12/12/2014 | (G) Butanedioic acid, mono(mixed hexadecen-1-yl and polyisobutylene) derivs., alkyl esters.
P-14-0633 | 12/18/2014 | 11/24/2014 | (G) Fatty acids, tall-oil, reaction products.
P-14-0748 | 12/18/2014 | 11/24/2014 | (G) Alkylpolyglycol ether phosphate ester.
P-14-0778 | 12/19/2014 | 12/18/2014 | (G) Polyethylene glycol alkyl ethers.
P-14-0267 | 12/22/2014 | 11/7/2014 | (S) Poly(oxy-1,2-ethanediyl), -[[(3-Isocyanatomethylphenyl)amino]carbonyl]—methoxy-*.
P-13-0866 | 12/22/2014 | 12/18/2014 | (S) Oils, Aquilaria crassna*.
P-14-0058 | 12/29/2014 | 12/9/2014 | (G) Alkylphosphinic acid.

If you are interested in information that is not included in these tables, you may contact EPA as described in Unit III. To access additional non-CBI information that may be available.

Authority: 15 U.S.C. 2601 et seq.

Dated: February 11, 2015.
Chandler Sirmons,
Acting Director, Information Management Division, Office of Pollution Prevention and Toxics.

[FR Doc. 2015-03460 Filed 2-19-15; 8:45 am]

BILLING CODE 6560-50-P